DEPARTMENT OF ENERGY

Federal Energy Regulatory Commission

Combined Notice of Filings

Take notice that the Commission has received the following Natural Gas Pipeline Rate and Refund Report filings:

Filings Instituting Proceedings

Docket Numbers: RP13-862-000.

Applicants: Algonquin Gas Transmission, LLC.

Description: FOSA Modifications May 2013 Filing to be effective 8/1/2013.

Filed Date: 5/1/13.

Accession Number: 20130501-5062.

Comments Due: 5 p.m. ET 5/13/13.

Docket Numbers: RP13-863-000.

Applicants: Big Sandy Pipeline, LLC.

Description: FOSA Modifications May 2013 Filing to be effective 8/1/2013.

Filed Date: 5/1/13.

Accession Number: 20130501-5069.

Comments Due: 5 p.m. ET 5/13/13.

Docket Numbers: RP13-864-000.

Applicants: Bobcat Gas Storage.

Description: FOSA Modifications May 2013 Filing to be effective 8/1/2013.

Filed Date: 5/1/13.

Accession Number: 20130501-5074.

Comments Due: 5 p.m. ET 5/13/13.

Docket Numbers: RP13-865-000.

Applicants: Maritimes & Northeast Pipeline, L.L.C.

Description: FOSA Modifications May 2013 Filing to be effective 8/1/2013.

Filed Date: 5/1/13.

Accession Number: 20130501-5075.

Comments Due: 5 p.m. ET 5/13/13.

Docket Numbers: RP13-866-000.

Applicants: Ozark Gas Transmission, L.L.C.

Description: FOSA Modifications May 2013 Filing to be effective 8/1/2013.

Filed Date: 5/1/13.

Accession Number: 20130501-5080.

Comments Due: 5 p.m. ET 5/13/13.

Docket Numbers: RP13-867-000.

Applicants: Texas Eastern Transmission, LP.

Description: FOSA Modifications May 2013 Filing to be effective 8/1/2013.

Filed Date: 5/1/13.

Accession Number: 20130501-5083.

Comments Due: 5 p.m. ET 5/13/13.

Docket Numbers: RP13-868-000.

Applicants: CenterPoint Energy Gas Transmission Comp.

Description: CEGT LLC—2013 Negotiated Rate Filing—May to be effective 5/1/2013.

Filed Date: 5/1/13.

Accession Number: 20130501-5084.

Comments Due: 5 p.m. ET 5/13/13.

Docket Numbers: RP13-869-000.

Applicants: Gulf South Pipeline Company, LP.

Description: Amendment to Neg Rate Agmt (Devon 34694-49) to be effective 5/1/2013.

Filed Date: 5/1/13.

Accession Number: 20130501-5085.

Comments Due: 5 p.m. ET 5/13/13.

Docket Numbers: RP13-871-000.

Applicants: Transcontinental Gas Pipe Line Company.

Description: Mid-South Expansion Project Phase 2 Rates to be effective 6/1/2013.

Filed Date: 5/1/13.

Accession Number: 20130501-5107.

Comments Due: 5 p.m. ET 5/13/13.

Docket Numbers: RP13-872-000.

Applicants: TC Offshore LLC.

Description: Cashout Surcharge 2013 to be effective 6/1/2013.

Filed Date: 5/1/13.

Accession Number: 20130501-5109.

Comments Due: 5 p.m. ET 5/13/13.

Docket Numbers: RP13-873-000.

Applicants: ANR Pipeline Company.

Description: High Injectability to be effective 6/1/2013.

Filed Date: 5/1/13.

Accession Number: 20130501-5131.

Comments Due: 5 p.m. ET 5/13/13.

Docket Numbers: RP13-874-000.

Applicants: Portland Natural Gas Transmission System.

Description: Revising Credit Language to be effective 6/1/2013.

Filed Date: 5/1/13.

Accession Number: 20130501-5148.

Comments Due: 5 p.m. ET 5/13/13.

Docket Numbers: RP13-875-000.

Applicants: Portland Natural Gas Transmission System.

Description: ROFR—Expansion to be effective 6/1/2013.

Filed Date: 5/1/13.

Accession Number: 20130501-5176.

Comments Due: 5 p.m. ET 5/13/13.

Docket Numbers: RP13-876-000.

Applicants: Tres Palacios Gas Storage LLC.

Description: Tres Palacios Gas Storage LLC—Filing of Non-Conforming Service Agreement to be effective 6/1/2013.

Filed Date: 5/1/13.

Accession Number: 20130501-5177.

Comments Due: 5 p.m. ET 5/13/13.

Docket Numbers: RP13-877-000.

Applicants: East Cheyenne Gas Storage, LLC.

Description: ECGS Operational Purchases and Sales Report.

Filed Date: 5/1/13.

Accession Number: 20130501-5184.

Comments Due: 5 p.m. ET 5/13/13.

Docket Numbers: RP13-878-000.

Applicants: Wyoming Interstate Company, L.L.C.

Description: WIC FL&U Filing effective 6/1/13 to be effective 6/1/2013.

Filed Date: 5/1/13.

Accession Number: 20130501-5194.

Comments Due: 5 p.m. ET 5/13/13.

Docket Numbers: RP13-879-000.

Applicants: Northern Natural Gas Company.

Description: 20130501 Winter Market Area Fuel to be effective 11/1/2013.

Filed Date: 5/1/13.

Accession Number: 20130501-5196.

Comments Due: 5 p.m. ET 5/13/13.

Docket Numbers: RP13-880-000.

Applicants: Gulfstream Natural Gas System, L.L.C.

Description: 2013 GNGS TUP/SBA Filing to be effective 6/1/2013.

Filed Date: 5/1/13.

Accession Number: 20130501-5235.

Comments Due: 5 p.m. ET 5/13/13.

Docket Numbers: RP13-881-000.

Applicants: Southeast Supply Header, LLC.

Description: 2013 TUP/SBA Annual Filing.

Filed Date: 5/1/13.

Accession Number: 20130501-5237.

Comments Due: 5 p.m. ET 5/13/13.

Docket Numbers: RP13-882-000.

Applicants: Ruby Pipeline, L.L.C.

Description: Firm Transportation Service Agreement Update to be effective 6/1/2013.

Filed Date: 5/1/13.

Accession Number: 20130501-5249.

Comments Due: 5 p.m. ET 5/13/13.

Docket Numbers: RP13-883-000.

Applicants: Columbia Gas Transmission, LLC.

Description: Discounted Overrun to be effective 6/1/2013.

Filed Date: 5/1/13.

Accession Number: 20130501-5259.

Comments Due: 5 p.m. ET 5/13/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP13-584-001.

Applicants: Columbia Gas Transmission, LLC.

Description: Revenue Sharing Report—RP12-1021 & RP13-584.

Filed Date: 5/1/13.

Accession Number: 20130501-5229.

Comments Due: 5 p.m. ET 5/13/13.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: May 2, 2013.
Nathaniel J. Davis, Sr.,
Deputy Secretary.

[FR Doc. 2013-11171 Filed 5-9-13; 8:45 am]

BILLING CODE 6717-01-P